DEPARTMENT OF HEALTH AND HUMAN SERVICES

National Institutes of Health

National Library of Medicine; Amended Notice of Meeting

Notice is hereby given of a change in the meeting of the Literature Selection Technical Review Committee, October 27-28, 2022, 9:30 a.m. to 5:00 p.m., which was published in the Federal Register on July 1, 2022, 87 FR 126, Page 39538.

This meeting will be amended to change the meeting time from 9:30 a.m.-5:00 p.m. to 10:00 a.m.-4:00 p.m. on both days. An open session is added from 10:00-11:20 a.m. on October 28, 2022.

The open session of the meeting will be virtual. Any interested person may file written comments with the committee by forwarding the statement to the Contact Person listed on this notice. The statement should include the name, address, telephone number and, when applicable, the business or professional affiliation of the interested person.

Individuals who need special assistance, such as sign language interpretation or other reasonable accommodations, should notify Dianne Babski, Associate Director, Division of Library Operations, National Library of Medicine at babskid@mail.nih.gov. The open session will be videocast and can be accessed from the NIH Videocasting website at https://videocast.nih.gov.

Dated: October 17, 2022.
Miguelina Perez,
Program Analyst, Office of Federal Advisory Committee Policy.

[FR Doc. 2022-22765 Filed 10-19-22; 8:45 am]

BILLING CODE 4140-01-P